NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at the University of Chicago by the Division of Materials Research (DMR) #1203.

Dates & Times: June 6, 2012; 6:00 p.m.-8:30 p.m.

June 7, 2012; 7:15 a.m.-8:30 p.m.

June 8, 2012; 7:15 a.m.-3:00 p.m.

Place: University of Chicago, Chicago, IL.

Type of Meeting: Part open.

Contact Person: Dr. Mary E. Galvin, Program Director, Materials Research Science and Engineering Centers Program, Division of Materials Research, Room 1065, National Science Foundation, 4201 Wilson Boulevard, Arlington, VA 22230, Telephone (703) 292-8562.

Purpose of Meeting: To provide advice and recommendations concerning further support of the MRSEC at the University of Chicago.

Agenda

Wednesday, June 6, 2012

6:00 p.m.-7:00 p.m. Closed—Briefing of panel

7:00 p.m.-8:30 p.m. Open—Poster Session

Thursday, June 7, 2012

7:15 a.m.-4:30 p.m. Open—Review of the MRSEC

5:00 p.m.-6:45 p.m. Closed—Executive Session

6:45 p.m.-8:30 p.m. Open—Dinner

Friday, June 8, 2012

7:15 a.m.-9:50 a.m. Closed—Executive Session

9:50 a.m.-3:00 p.m. Closed—Executive Session, Draft and Review Report

Reason for Closing: The work being reviewed may include information of a proprietary or confidential nature, including technical information; financial data, such as salaries and personal information concerning individuals associated with the MRSEC. These matters are exempt under 5 U.S.C. 552b(c), (4) and (6) of the Government in the Sunshine Act.

Dated: May 15, 2012.
Susanne Bolton,
Committee Management Officer.

[FR Doc. 2012-12115 Filed 5-17-12; 8:45 am]

BILLING CODE 7555-01-P